DEPARTMENT OF HOMELAND SECURITY

Coast Guard

33 CFR Part 165

[Docket Number USCG-2022-0978]

RIN 1625-AA00

Safety Zone; Restricted Visibility in Tampa Bay; Tampa Bay, Tampa, FL

AGENCY: Coast Guard, DHS.

ACTION: Notice of proposed rulemaking.

SUMMARY: The Coast Guard proposes to revise an existing safety zone regulation in Tampa Bay within the geographic boundaries of the Captain of the Port (COTP) St. Petersburg Zone. The proposed change is designed to align the coordinates in the regulation with the coordinates needed to properly control traffic in cases of restricted visibility in Tampa Bay. The current coordinates do not reflect the safety zones that the Coast Guard intended to put in place. The Coast Guard invites your comments on this proposed rulemaking.

DATES: Comments and related material must be received by the Coast Guard on or before March 1, 2023.

ADDRESSES: You may submit comments identified by docket number USCG-2022-0978 using the Federal Decision Making Portal at https://www.regulations.gov. See the “Public Participation and Request for Comments” portion of the SUPPLEMENTARY INFORMATION section for further instructions on submitting comments.

FOR FURTHER INFORMATION CONTACT: If you have questions about this proposed rulemaking, call or email Marine Science Technician First Class Regina L. Cuevas, Sector St. Petersburg Prevention Department, Coast Guard; telephone (813) 228-2191, email Regina.L.Cuevas@uscg.mil.

SUPPLEMENTARY INFORMATION:

I. Table of Abbreviations

CFR Code of Federal Regulations

DHS Department of Homeland Security

FR Federal Register

NPRM Notice of proposed rulemaking

§ Section

U.S.C. United States Code

II. Background, Purpose, and Legal Basis

On June 26, 2015, the Coast Guard published a final rule entitled, “Safety Zones, St. Petersburg Captain of the Port Zone.¹ ” This action was taken to establish safety zones that restrict port operations in the event of reduced or restricted visibility, or during natural disasters, e.g. hurricanes, and establish safety zones around firework platforms, structures or barges during the storage, preparation, and launching of fireworks. This final rule established seven zones that could be used to direct vessel movement in times of restricted visibility. In 2022, it was brought to the attention of the Seventh Coast Guard District that the safety zones listed in 33 CFR 165.782(a)(4) and (a)(5) did not reflect the zones that were needed for the Captain of the Port (COTP) to properly control vessel movement in times of reduced visibility. More specifically, the errors were discovered in the first coordinate of zone 4 in § 165.782(a)(4) and the second coordinate of zone 5 in § 165.782(a)(5). With this proposed rule, the Coast Guard is correcting the points needed by the COTP to ensure safety amongst all port users, particularly in time of reduced visibility. The Coast Guard is proposing this rulemaking under authority in 46 U.S.C. 70034.

¹ 80 FR 36716.

III. Discussion of Proposed Rule

This rule is proposing to modify zones 4 and 5 listed in § 165.782(a)(4) and (a)(5) to align with the zones that were intended by the COTP, and are necessary to control vessel movement during times of reduced visibility. The proposed rule would to make the following changes in §§ 165.782(a)(4) and (a)(5): move the first coordinate in zone 4, from 27°46′34″ N, 82°34′04″ W, to 27°46′36″ N; 82°24′04″ W, and move the second coordinate in zone 5 from 27°58′59″ N, 82°40′34″ W, to 27°38′59″ N, 82°40′35″ W.

IV. Regulatory Analyses

We developed this proposed rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This NPRM has not been designated a “significant regulatory action,” under Executive Order 12866. Accordingly, the NPRM has not been reviewed by the Office of Management and Budget (OMB).

This regulatory action determination is based on four specific factors: (1) these zones will only be activated in times of restricted visibility; (2) the zones will only be activated for short periods of time; (3) persons and vessels may operate within the security zone when authorized by Captain of the Port of St. Petersburg or a designated representative; and (4) the zones are already in place, this regulatory action only represents a minor change in the boundaries.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the safety zone may be small entities, for the reasons stated in section IV.A above, this proposed rule would not have a significant economic impact on any vessel owner or operator.

If you think that your business, organization, or governmental jurisdiction qualifies as a small entity and that this proposed rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the proposed rule would affect your small business, organization, or governmental jurisdiction and you have questions concerning its provisions or options for compliance, please call or email the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this proposed rule under that order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the potential effects of this proposed rule elsewhere in this preamble.

F. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This proposed rule only involves correction of coordinates identifying the reduced visibility of safety zones 4 and 5 that had already been established for several years. Normally such actions are categorically excluded from further review under paragraph L60(a) of Appendix A, Table 1 of DHS Instruction Manual 023-01-001-01, Rev. 1. A preliminary Record of Environmental Consideration supporting this determination is available in the docket. For instructions on locating the docket, see the ADDRESSES section of this preamble. We seek any comments or information that may lead to the discovery of a significant environmental impact from this proposed rule.

G. Protest Activities

The Coast Guard respects the First Amendment rights of protesters. Protesters are asked to call or email the person listed in the FOR FURTHER INFORMATION CONTACT section to coordinate protest activities so that your message can be received without jeopardizing the safety or security of people, places, or vessels.

V. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision Making Portal at https://www.regulations.gov. To do so, go to https://www.regulations.gov, type USCG-2022-0978 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov. Frequently Asked Questions web page. We review all comments received, but we will only post comments that address the topic of the proposed rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

List of Subjects in 33 CFR Part 165

Harbors, Marine safety, Navigation (water), Reporting and recordkeeping requirements, Security measures, Waterways.

For the reasons discussed in the preamble, the Coast Guard is proposing to amend 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.3.

2. In § 165.782, revise paragraphs (a)(4) and (a)(5) to read as follows:

§ 165.782 Safety Zone; restricted visibility in Tampa Bay.

(a) * * *

(4) Zone 4 (Middle Tampa Bay) means all navigable waters within a box marked by the following coordinates: 27°46′36″ N; 82°24′04″ W; thence to 27°38′40″ N, 82°31′54″ W; thence to 27°44′38″ N, 82°40′44″ W; thence to 27°46′15″ N, 82°40′46″ W. This zone encompasses all navigable waterways between Cut “6F” (LLNR 22830) Channel to Tampa Bay “1C” (LLNR 22590).

(5) Zone 5 (Lower Tampa Bay/Manatee) means all navigable waters within a box marked by the following coordinates: 27°44′33″ N, 82°40′37″ W; thence to 27°38′59″ N, 82°40′35″ W; thence to 27°36′18″ N, 82°38′57″ W; thence to 27°34′10″ N, 82°34′50″ W; thence to 27°37′56″ N, 82°31′15″ W. This zone encompasses all navigable waterways between Tampa Bay “1C” (LLNR 22590) to Sunshine Skyway Bridge.

* * * * *

Dated: January 23, 2023.
Micheal P. Kahle,
Captain, U.S. Coast Guard, Captain of the Port Sector St. Petersburg.

[FR Doc. 2023-01755 Filed 1-27-23; 8:45 am]

BILLING CODE 9110-04-P